FEDERAL COMMUNICATIONS COMMISSION

47 CFR Parts 2 and 87

[WT Docket No. 01-289; FCC 01-303]

Review of Part 87 of the Commission's Rules Concerning the Aviation Radio Service

AGENCY: Federal Communications Commission.

ACTION: Proposed rule.

SUMMARY: In this Notice of Proposed Rule Making (NPRM), the FCC proposes to consolidate, revise, and streamline the Commission rules governing the Aviation Radio Service. The proposed rule changes are designed to ensure that these rules reflect recent technological advances, as well as ensuring that these rules are consistent with other Commission rules. The FCC is initiating this proceeding to eliminate regulations that are duplicative, outmoded, or otherwise unnecessary in the Aviation Radio Service.

DATES: Written comments by the public on the proposed and/or modified information collections are due March 14, 2002 and reply comments are due on or before April 15, 2002.

ADDRESSES: In addition to filing comments with the Secretary, a copy of any comments on the information collections contained herein should be submitted to Judy Boley, Federal Communications Commission, Room 1-C804, 445 Twelfth Street, SW., Washington, DC 20554, or via the Internet to jboley@fcc.gov, and to Edward Springer, OMB Desk Officer, 10236 NEOB, 725 17th Street, NW., Washington, DC 20503 or via the Internet to Edward.Springer@omb.eop.gov.

FOR FURTHER INFORMATION CONTACT: Jeffrey Tobias, Wireless Telecommunications Bureau, at (202) 418-0680 and for additional information concerning the information collections contained in this NPRM contact Judy Boley at 202-418-0214, or via the Internet at jboley@fcc.gov.

Paperwork Reduction: This NPRM contains either a proposed or modified information collection. The Commission, as part of its continuing effort to reduce paperwork burdens, invites the general public and the Office of Management and Budget (OMB) to comment on the information collections contained in this NPRM, as required by the Paperwork Reduction Act of 1995, Pub. Law 104-13. Public and agency comments are due at the same time as other comments on this NPRM; OMB notification of action is due 60 days from date of publication of this NPRM in the Federal Register. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology.

SUPPLEMENTARY INFORMATION: This is a summary of the Federal Communications Commission's Notice of Proposed Rule Making, FCC 01-303, adopted on October 10, 2001 and released on October 16, 2001. The full text of this Notice of Proposed Rule Making is available for inspection and copying during normal business hours in the FCC Reference Center, Room CY-A257, 445 12th Street, SW, Washington, DC 20554. The complete text may be purchased from the Commission's copy contractor, Qualex International, 445 12th Street, SW, Room CY-B402, Washington, D.C. 20554. The full text may also be downloaded at www.fcc.gov. Alternative formats are available to persons with disabilities by contacting Martha Contee at (202) 418-0260 or TTY (202) 418-2555.

OMB Approval Number: 3060-xxxx.

Title: Section 87.109 Station logs.

Form No.: Not applicable.

Type of Review: New collection.

Respondents: 3.

Number of Responses: 3.

Estimated Time Per Response: 100 hours.

Total Annual Burden: 300 hours.

Estimated costs per respondent: none.

Needs and Uses: The rule is needed to require fixed station in the international aeronautical mobile service to maintain a written or automatic log in accordance with the provisions of the International Civil Aviation Organization (ICAO) Convention. The log is necessary to document the service fixed stations, including the harmful interference, equipment failure and logging of distress and safety calls where applicable.

OMB Approval Number: 3060-xxxx.

Title: Section 87.147 Authorization of equipment.

Form No.: Not applicable.

Type of Review: New collection.

Respondents: 25.

Number of Responses: 25.

Estimated Time Per Response: 1 hours.

Total Annual Burden: 25 hours.

Estimated costs per respondent: none.

Needs and Uses: The rule is needed to require applicants for aviation equipment certification to submit an FAA determination of the equipment's compatibility with the National Airspace System (NSA). This will ensure that radio equipment operating in certain frequencies is compatible with the NAS, which shares system components with the military.

1. The Aviation Radio Service is an internationally-allocated family of radio services designed to enhance and protect the safety of life and property in air navigation. In this NPRM we propose to consolidate, revise, and streamline our Part 87 rules governing the Aviation Radio Service. These proposed rule changes are designed to ensure that these rules reflect recent technological advances, as well as ensuring that these rules are consistent with other Commission rules. We are also initiating this proceeding to eliminate regulations that are duplicative, outmoded, or otherwise unnecessary in the Aviation Radio Service.

2. In the NPRM, we propose to update the technical specifications for Aeronautical Mobile Satellite (Route) Service (AMS(R)S) equipment; amend our equipment certification procedures to permit the certification of dual spacing transceivers for aircraft also operating in countries which employ 8.33 kHz channel spacing; allow the certification of radios that operate outside the civil aviation band for aircraft in the Civil Reserve Airfleet, and streamline the certification process for equipment needing a Federal Aviation Administration (FAA) showing of compatibility with the National Airspace System.

3. The NPRM also prepares to authorize the use of the Differential Global Positioning System (DGPS) in the 108-118 and 1559-1610 MHz bands and license DGPS licensees on a non-developmental basis, and allow the use of temporary call signs for aircraft operation under the provisions of wet lease agreements.

4. The NPRM also seeks comment on major issues such as:

(1) Whether to authorize AMS(R)S under the 47 CFR part 87 rules in the 1610-1626.5 and 5000-5150 MHz bands;

(2) Whether to amend § 87.261(c) of our rules to allow more than one aeronautical enroute station to be authorized at any one location;

(3) Whether to amend our 47 CFR part 87 rules to accommodate Time Division Multiple Access emissions in the very high frequency Aeronautical Mobile (Route) Service (AMRS) band, as an alternative to 8.33 kHz channel spacing to allow greater use of spectrum for domestic air travel;

(4) Whether to eliminate all specific references to the Civil Air Patrol in Part 87; and

(5) Whether to revise our licensing rules and procedures for aeronautical advisory (unicom) stations.

Procedural Matters

5. Ex Parte Rules. This is a permit-but-disclose notice and comment rule making proceeding. Ex parte presentations are permitted, except during the Sunshine Agenda period, provided they are disclosed as provided in our Rules.

6. Comment Dates. Pursuant to §§ 1.415 and 1.419 of our Rules, interested parties may file comments on or before March 14, 2002, and reply comments on or before April 15, 2002. Comments may be filed using the Commission's Electronic Filing System (ECFS) or by filing paper copies.

7. Comments filed through the ECFS can be sent as an electronic file via the Internet to http://www.fcc.gov/e-file/ecfs.html. Generally, only one copy of an electronic submission must be filed. If multiple docket or rulemaking numbers appear in the caption of this proceeding, however, then commenters must transmit one electronic copy of the comments to each docket or rulemaking number referenced in the caption. In completing the transmittal screen, commenters should include their full name, Postal Service mailing address, and the applicable docket or rulemaking number. Parties may also submit an electronic comment by Internet e-mail. To obtain filing instructions for e-mail comments, commenters should send an e-mail to ecfs@fcc.gov, and should include the following words in the body of the message, “get form <your e-mail address>.” A sample form and directions will be sent in reply.

8. Parties who choose to file by paper must file an original and four copies of each filing. If more than one docket or rulemaking number appears in the caption of this proceeding, commenters must submit two additional copies for each additional docket or rulemaking number. All filings must be sent to the Commission's Secretary, Magalie Roman Salas, Office of the Secretary, Federal Communications Commission, 445 12th St., SW., Room TW-A325, Washington, DC 20554.

9. Parties who choose to file by paper should also submit their comments on diskette. These diskettes should be submitted to Jeffrey Tobias, Public Safety and Private Wireless Division, Wireless Telecommunications Bureau, 445 12th St., SW., Washington, DC 20554. Such a submission should be on a 3.5-inch diskette formatted in an IBM compatible format using Microsoft Word 97 or compatible software. The diskette should be accompanied by a cover letter and should be submitted in “read only” mode. The diskette should be clearly labeled with the commenter's name, proceeding (including the docket number in this case, WT Docket No. 01-289, type of pleading (comment or reply comment), date of submission, and the name of the electronic file on the diskette. The label should also include the following phrase “Disk Copy—Not an Original.” Each diskette should contain only one party's pleadings, preferably in a single electronic file. In addition, commenters should send diskette copies to the Commission's copy contractor, Qualex International, Portals II, 445 Twelfth St., SW., Room CY-B402, Washington, DC 20554.

Initial Regulatory Flexibility Certification

10. The Regulatory Flexibility Act (RFA) requires that an agency prepare a regulatory flexibility analysis for notice-and-comment rulemaking proceedings, unless the agency certifies that “the rule will not, if promulgated, have a significant economic impact on a substantial number of small entities.” The RFA generally defines “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA).

11. The proposals in the NPRM are intended to reduce the administrative burden on applicants and entities seeking certification of equipment, ensure that the Commission's rules reflect the latest technical and industry standards, and correct typographical or ministerial errors in the Commission's Rules. The changes we propose are of an administrative nature, and will not have a substantial economic impact on small entities. If there is an economic impact on small entities as a result of these proposals, however, we expect the impact to be a positive one.

12. The Commission therefore certifies, pursuant to the RFA, that the proposals in this NPRM, if adopted, will not have a significant economic impact on a substantial number of small entities. If commenters believe that the proposals discussed in the NPRM require additional RFA analysis, they should include a discussion of these issues in their comments and additionally label them as RFA comments. The Commission will send a copy of the NPRM, including a copy of this initial certification, to the Chief Counsel for Advocacy of the SBA. In addition, a copy of the NPRM and this initial certification will be published in the Federal Register.

Ordering Clauses

13. Pursuant to sections 4(i), 303(r), and 403 of the Communications Act of 1934, as amended, 47 U.S.C. 154(i), 303(r), 403, this Notice of Proposed Rule Making is adopted.

List of Subjects

47 CFR Part 2

Communications equipment, Radio, Telecommunications

47 CFR Part 87

Air transportation, Civil defense, Radio, Reporting and recordkeeping requirements

Federal Communications Commission
William F. Caton,
Deputy, Secretary.

Rules Changes

For the reasons discussed in the preamble the Federal Communications Commission proposes to amend 47 CFR Parts 2 and 87 as follows:

PART 2—FREQUENCY ALLOCATIONS AND RADIO TREATY MATTERS; GENERAL RULES AND REGULATIONS

1. The authority citation for Part 2 continues to read as follows:

Authority: 47 U.S.C. 154, 302a, 303, and 336, unless otherwise noted.

2. Section 2.106, the Table of Frequency Allocations, is amended as follows:

a. Revise pages

b. 26 and 44.

c. In the list of United States (US) Footnotes, add footnote US343.

The revisions and addition read as follows:

§ 2.106 Table of Frequency Allocations.

BILLING CODE 6712-01-C

* * * * *

United States (US) Footnotes

* * * * *

US343 Differential-Global-Positioning-System (DGPS) Stations may be authorized on a primary basis in the bands 108-117.975 MHz and 1559-1610 MHz for the specific purpose of transmitting DGPS information intended for aircraft navigation.

* * * * *

PART 87—AVIATION SERVICES

1. The authority citation for Part 87 continues to read as follows:

Authority: 47 U.S.C. 154, 303 and 307(e), unless otherwise noted.

2. Section 87.27 is revised to read as follows:

§ 87.27 License term.

(a) Licenses for stations in the aviation services will normally be issued for a term of ten years from the date of original issuance, or renewal.

(b) Licenses for developmental stations will be issued for a period not to exceed one year and are subject to change or to cancellation by the Commission at any time, upon reasonable notice, but without a hearing.

3. Section 87.45 is revised to read as follows:

§ 87.45 Time in which station is placed in operation.

This section applies only to unicom stations and radionavigation land stations, excluding radionavigation land test stations. When a new license has been issued or additional operating frequencies have been authorized, the station or frequencies must be placed in operation no later than one year from the date of the grant. The licensee must notify the Commission in accordance with § 1.946 of this chapter that the station or frequencies have been placed in operation.

4. Section 87.107 is amended by adding paragraph (a)(6) to read as follows:

§ 87.107 Station identification.

(a) * * *

(6) Aircraft operating under Wet Lease Agreements as provided in 14 CFR part 119 may identify themselves by lessee carrier's call sign, followed by the suffix “WLA.”

* * * * *

1. Section 87.109 is revised to read as follows:

§ 87.109 Station logs.

(a) A station at a fixed location in the international aeronautical mobile service must maintain a log in accordance with Annex 10 of the ICAO Convention.

(b) A station log must contain the following information:

(1) The name of the agency operating the station.

(2) The identification of the station.

(3) The date.

(4) The time of opening and closing the station.

(5) The frequencies being guarded and the type of watch (continuous or scheduled) being maintained on each frequency.

(6) Except at intermediate mechanical relay stations where the provisions of this paragraph need not be complied with, a record of each communication showing text of communication, time communications completed, station(s) communicated with, and frequency used.

(7) All distress communications and action thereon.

(8) A brief description of communications conditions and difficulties, including harmful interference. Such entries should include, whenever practicable, the time at which interference was experienced, the character, radio frequency and identification of the interfering signal.

(9) A brief description of interruption to communications due to equipment failure or other troubles, giving the duration of the interruption and action taken.

(10) Such additional information as may be considered by the operator to be of value as part of the record of the station's operations.

(c) Stations maintaining written logs must also enter the signature of each operator, with the time the operator assumes and relinquishes a watch.

6. In § 87.131 amend the table by revising the entries for Aeronautical enroute and aeronautical fixed, Aircraft Earth and footnote 8 to read as follows:

§ 87.131 Power and emissions.

* * * * *

Class of station | Frequency band frequency | Authorized emission(s)⁹ | Maximum power¹
* * * * * * *
Aeronautical enroute and aeronautical fixed | HF | R3E, H3E, J3E, J7B, H2B, J2D | 6 kW.
| HF | A1A, F1B, J2A, J2B | 1.5 kw.
| VHF | A3E, A9W, G1D | 200 watts.²
* * * * * * *
Aircraft Earth | UHF | G1D, G1E, G1W | 80 watts.⁸
* * * * * * *
⁸ Power may not exceed 80 watts per carrier as measured at the output of the high power amplifier. The maximum EIRP may not exceed 2000 watts per carrier.
* * * * *

7. In § 87.137, amend the table in paragraph (a) by revising the second entry for A3E to read as follows:

§ 87.137 Types of emission.

(a)* * *

Class of emission | Emission designator | Authorized bandwidth (kilohertz): Below 50 MHz | Authorized bandwidth (kilohertz): Above 50 MHz | Authorized bandwidth (kilohertz): Frequency deviation
* * * * * * *
A3E | 8K33A3E |  | (¹⁷) |
* * * * * * *
* * * * *
¹⁷ Only authorized for use by aircraft in international flight or for equipment certification purposes.
* * * * *

8. Section 87.139 is amended by removing paragraph (i)(2) and redesignating paragraphs (i)(3) and paragraph (i)(4) as paragraphs (i)(2) and (i)(3) and revising paragraphs (i)(1) and newly redesignated paragraph (i)(3) to read as follows:

§ 87.139 Emission limitations.

* * * * *

(i)* * *

(1) At rated output power, while transmitting a modulated single carrier, the composite spurious and noise output shall be attenuated below the mean power of the transmitter, pY, by at least:

Frequency (MHz) | Attenuation (dB)¹
0.01 to 1525 | 135 dB/4 kHz
1525 to 1559 | 203 dB/4 kHz
1559 to 1585 | 155 dB/1 MHz
1585 to 1605 | 143 dB/1 MHz
1605 to 1610 | 117 dB/1 MHz
1610 to 1610.6 | 95 dB/MHz
1610.6 to 1613.8 | 80 dBW/MHz
1613.8 to 1614 | 95 dB/MHz
1614 to 1626.5 | 70 dB/4 kHz
1626.5 to 1660 | 70 dB/4 kHz²
1660 to 1670 | 49.5 dB/20 kHz²
1670 to 1735 | 60 dB/4 kHz
1735 to 12000 | 105 dB/4 kHz
12000 to 18000 | 70 dB/4 kHz
¹ These values are expressed in dB below the carrier referenced to the bandwidth indicated, and relative to the maximum emission envelope level, or where the attenuation is shown in dBW, the attenuation is expressed in terms of absolute power referenced to the bandwidth indicated.
² Attenuation measured within the transmit band excludes the band ± 35 kHz of the carrier frequency.

* * * * *

(3) The transmitter emission limit is a function of the modulation type and symbol rate (SR). Symbol Rate is expressed in symbols per second.

Frequency offset (normalized to SR) | Attenuation (dB)
+/−0.75×SR | 0
+/−1.40×SR | 20
+/−2.95×SR | 40

Where:

SR = Symbol Rate

SR = 1×channel rate for BPSK

SR = 0.5×channel rate for QPSK

* * * * *

9. Section 87.147 is amended by adding paragraph (f) and revising paragraphs (d) and (d) (2) to read as follows:

§ 87.147 Authorization of equipment.

* * * * *

(d) An applicant for certification of equipment intended for transmission in any of the frequency bands listed in paragraph (d)(3) of this section must notify the FAA of the filing of a certification application. The letter of notification must be mailed to: FAA, Office of Spectrum Policy and Management, 800 Independence Ave., SW., Washington, DC 20591 prior to the filing of the application with the Commission.

* * * * *

(2) The certification application must include a copy of the notification letter to the FAA as well as a copy of the FAA's subsequent determination of the equipment's compatibility with the National Airspace System.

* * * * *

(f) Certification may be requested for equipment that has the capability to transmit in the 138-144 MHz, 148-149.9 MHz, or 150.5-150.8 MHz bands as well as frequency bands set forth in § 87.173. The Commission will only certify this equipment for use in the bands regulated by this part.

10. Section 87.171 is revised to read as follows:

§ 87.171 Class of station symbols.

AX—Aeronautical fixed

AXO—Aeronautical operational fixed

DGP—Differential GPS

FA—Aeronautical land (unspecified)

FAU—Aeronautical advisory (unicom)

FAC—Airport control tower

FAE—Aeronautical enroute

FAM—Aeronautical multicom

FAP—Civil Air Patrol

FAR—Aeronautical search and rescue

FAS—Aviation support

FAT—Flight test

FAW—Automatic weather observation

GCO—“ Ground Communication Outlet

MA—Aircraft (Air carrier and Private)

MA1—Air carrier aircraft only

MA2—Private aircraft only

MOU—Aeronautical utility mobile

MRT—ELT test

RCO—Remote Communications Outlet

RL—Radionavigation land (unspecified)

RLA—Marker beacon

RLB—Radiobeacon

RLD—“ RADAR/TEST

RLG—Glide path

RLL—Localizer

RLO—VHF omni-range

RLS—Surveillance radar

RLT—Radionavigation land test

RLW—Microwave landing system

RNV—“ Radio Navigation Land/DME

RPC—“ Ramp Control

TJ—Aircraft earth station in the Aeronautical Mobile-Satellite Service

11. In § 87.173 amend the table in paragraph (b) by adding the entries for 510-535 kHz, 108.00-117.975 MHz, and 1559-1610 MHz to read as follows:

§ 87.173 Frequencies.

* * * * *

(b) Frequency table:

Frequency or frequency band | Subpart | Class of station | Remarks
* * * * * * *
510-535 kHz | Q | RLB | Radiobeacons.
* * * * * * *
108.000-117.975 MHz | Q | DGP | Differential GPS.
* * * * * * *
1559-1610 MHz | Q | DGP | Differential GPS.
* * * * * * *

12. Section 87.187 is amended by revising a new paragraph (dd) to read as follows:

§ 87.187 Frequencies.

* * * * *

(dd) The frequency 121.95 is authorized for air-to-ground and air-to-air communications for aircraft up to 13000 feet above mean sea level (AMSL) within the area bounded by the following coordinates (all coordinates are referenced to North American Datum 1983 (NAD83)):

32-35-00 N. Lat.; 117-12-00 W. Long.

32-42-00 N. Lat.; 116-56-00 W. Long.

32-41-00 N. Lat.; 116-41-00 W. Long.

32-35-00 N. Lat.; 116-38-00 W. Long.

32-31-00 N. Lat.; 117-11-00 W. Long.

13. Section 87.189 is amended by revising paragraph (c) to read as follows:

§ 87.189 Requirements for public correspondence equipment and operations.

* * * * *

(c) A continuous watch must be maintained on the frequencies used for safety and regularity of flight while public correspondence communications are being handled.

For aircraft earth stations, this requirement is satisfied by compliance with the priority and preemptive access requirements of § 87.187(q).

* * * * *

14. Section 87.217 is amended by revising paragraph (a) introductory text to read as follows:

§ 87.217 Frequencies.

(a) Only one unicom frequency will be assigned at any one airport. Applicants must request a particular frequency, which will be taken into consideration when the assignment is made. The frequencies assignable to unicoms are:

* * * * *

15. Section 87.475 is amended by revising paragraphs (b)(2) and (c)(2) introductory text to read as follows:

§ 87.475 Frequencies.

* * * * *

(b)* * *

(2) Radiobeacon stations enable an aircraft station to determine bearing or direction in relation to the radiobeacon station. Radiobeacons operate in the bands 190-285 kHz; 325-435 kHz; 510-525 kHz; and 525-535 kHz. Radiobeacons may be authorized, primarily for off-shore use, in the band 525-535 kHz on a non-interference basis to travelers information stations.

* * * * *

(c) * * *

(2) The frequencies available for assignment to radionavigation land test stations for the testing of airborne receiving equipment are 108.000 and 108.050 MHz for VHF omni-range; 108.100 and 108.150 MHz for localizer; 334.550 and 334.700 MHz for glide slope; 978 and 979 MHz (X channel)/1104 MHz (Y channel) for DME; 1030 MHz for ATC radar beacon transponders; 1090 MHz for Traffic Alert and Collision Avoidance Systems (TCAS); and 5031.0 MHz for microwave landing systems. Additionally, the frequencies in paragraph (b) of this section may be assigned to radionaviagion land test stations after coordination with the FAA. The following conditions apply:

* * * * *

[FR Doc. 01-30432 Filed 12-13-01; 8:45 am]

BILLING CODE 6712-01-P